DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of five individuals and six entities whose property and interests in property have been blocked pursuant to the Foreign Narcotics Kingpin Designation Act (“Kingpin Act”) (21 U.S.C. 1901-1908, 8 U.S.C. 1182).

DATES: The designation by the Director of OFAC of the five individuals and six entities identified in this notice pursuant to section 805(b) of the Kingpin Act is effective on September 24, 2013.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 24, 2013, the Director of OFAC designated the following five individuals and six entities whose property and interests in property are blocked pursuant to section 805(b) of the Kingpin Act.

Individuals

1. DURAN NUNEZ, Juan Carlos, Calle Johanes Brahams #355, Interior 10, Fraccionamiento La Estancia, Zapopan, Jalisco, Mexico; DOB 29 Jun 1967; POB Guadalajara, Jalisco; R.F.C. DUNJ670629IL4 (Mexico); C.U.R.P. DUNJ670629HJCRXN08 (Mexico) (individual) [SDNTK] (Linked To: GRUPO COMERCIAL ROOL, S.A. DE C.V.; Linked To: RANCHO EL NUEVO PACHON, S. DE R.L. DE C.V.; Linked To: ASESORIA Y SERVICIOS ADMINISTRATIVOS, TECNICOS Y OPERATIVOS DUREL, S.A. DE C.V.).

2. ELIZONDO CASTANEDA, Andres Martin, Guadalajara, Jalisco, Mexico; DOB 14 Nov 1961; C.U.R.P. EICA611114HJCLSN03 (Mexico) (individual) [SDNTK] (Linked To: CASA EL VIEJO LUIS DISTRIBUIDORA, S.A. DE C.V.; Linked To: GRUPO COMERCIAL ROOL, S.A. DE C.V.; Linked To: RANCHO EL NUEVO PACHON, S. DE R.L. DE C.V.; Linked To: OPERADORA Y ADMINISTRADORA DE RESTAURANTES Y BARES RUDU, S.A. DE C.V.; Linked To: ROOL EUROPE AG; Linked To: ASESORIA Y SERVICIOS ADMINISTRATIVOS, TECNICOS Y OPERATIVOS DUREL, S.A. DE C.V.).

3. OLIVERA JIMENEZ, Juana, Calle Velazquez #167, Colonia Real Vallarta, Zapopan, Jalisco, Mexico; DOB 05 Apr 1941; POB Pihuamo, Jalisco; C.U.R.P. OIJJ410405MJCLMN04 (Mexico) (individual) [SDNTK] (Linked To: GRUPO COMERCIAL ROOL, S.A. DE C.V.).

4. REYES MAGANA, Felipe, Calle Juan Jose Arreola #535, Col. Lomas Vista Hermosa, Colima, Colima, Mexico; DOB 11 Oct 1967; POB Tonila, Jalsico; C.U.R.P. REMF671011HJCYGL02 (Mexico); RFC REMF671011QH1 (Mexico) (individual) [SDNTK] (Linked To: OPERADORA Y ADMINISTRADORA DE RESTAURANTES Y BARES RUDU, S.A. DE C.V.; Linked To: CASA EL VIEJO LUIS DISTRIBUIDORA, S.A. DE C.V.).

5. RODRIGUEZ OLIVERA, Rosalina; DOB 03 Sep 1969; POB Tecalitlan, Jalisco; C.U.R.P. ROOR690903MJCDLS07 (Mexico) (individual) [SDNTK] (Linked To: GRUPO COMERCIAL ROOL, S.A. DE C.V.).

Entities

1. ASESORIA Y SERVICIOS ADMINISTRATIVOS, TECNICOS Y OPERATIVOS DUREL, S.A. DE C.V., Av. Mexico No. 2798, Int 3B, Col. Terranova, Guadalajara, Jalisco C.P. 44689, Mexico; Folio Mercantil No. 3048*1 (Mexico) [SDNTK].

2. CASA EL VIEJO LUIS DISTRIBUIDORA, S.A. DE C.V. (a.k.a. CASA EL VIEJO LUIS; a.k.a. CASA VIEJO LUIS; a.k.a. EL VIEJO LUIS; a.k.a. TEQUILA EL VIEJO LUIS), El Paraiso No. 6848, Col. Ciudad Granja, Zapopan, Jalisco 45010, Mexico; Blvd. Luis Donaldo Colosio s/n Bonfil, Cancun, Quintana Roo, Mexico; RFC CVL090120UT2 (Mexico); Folio Mercantil No. 46920 [SDNTK].

3. GRUPO COMERCIAL ROOL, S.A. DE C.V. (a.k.a. EL VIEJO LUIS; a.k.a. TEQUILA VALENTON), Alberta No. 2288 4B, Col. Jardines de Providencia, Guadalajara, Jalisco 44630, Mexico; Acueducto No. 2380, Col. Colinas de San Javier, Guadalajara, Jalisco 44660, Mexico; Lazaro Cardenas No. 3430, Desp. 403 and 404, Piso 4, Zapopan, Jalisco 45040, Mexico; Av. Mexico No. 2798, Col. Terranova, Guadalajara, Jalisco 44689, Mexico; RFC GCR990628KR9 (Mexico); Folio Mercantil No. 38347 [SDNTK].

4. OPERADORA Y ADMINISTRADORA DE RESTAURANTES Y BARES RUDU, S.A. DE C.V., Vallarta No. 2380, Col. Colinas De San Javier, Guadalajara, Jalisco, Mexico; R.F.C. OAR001006113 (Mexico); Folio Mercantil No. 15247 (Mexico) [SDNTK].

5. RANCHO EL NUEVO PACHON, S. DE R.L. DE C.V. (a.k.a. FRESCOS EL PACHON), Km. 14 Camino Viejo a San Isidro Mazatepec, Tala, Jalisco 45340, Mexico; Folio Mercantil No. 6022 (Mexico) [SDNTK].

6. ROOL EUROPE AG, Alsterberg 18 B, 22335, Hamburg 22335, Germany; Dessauer Str. 2-4, Hamburg 20457, Germany; Commercial Registry Number HRB96201 (Germany) [SDNTK].

In addition, OFAC is publishing an addition to the identifying information for the following individual previously designated pursuant to the Kingpin Act.

1. RODRIGUEZ OLIVERA, Luis (a.k.a. MORFAN RODRIGUEZ, Luis Fernando; a.k.a. RODRIGUEZ MORFIN, Luis; a.k.a. RODRIGUEZ OLIVERA, Luis Fernando), Plaza Pabellion, Zapopan, Jalisco, Mexico; Colonia Providencia, Calle Quebec, Apt. 1127, Guadalajara, Jalisco, Mexico; 4179 Colonia Miravalle, Guadalajara, Jalisco, Mexico; Sendero Las Acacias 92, Guadalajara, Jaslico, Mexico; Vereda Del Canario 1, Guadalajara, Jalisco, Mexico; Puerto de Hierro, Zapopan, Jalisco, Mexico; Fresno, CA; DOB 3 Apr 1972; alt. DOB 1960; alt. DOB 1966; POB Tecalitlan, Jalisco, Mexico; citizen Mexico; nationality Mexico (individual) [SDNTK]

The listing for this individual now appears as follows:

1. RODRIGUEZ OLIVERA, Luis (a.k.a. MORFAN RODRIGUEZ, Luis Fernando; a.k.a. RODRIGUEZ MORFIN, Luis; a.k.a. RODRIGUEZ OLIVERA, Luis Fernando; a.k.a. SANCHEZ JIMENEZ, Jose Luis), Plaza Pabellion, Zapopan, Jalisco, Mexico; Colonia Providencia, Calle Quebec, Apt. 1127, Guadalajara, Jalisco, Mexico; 4179 Colonia Miravalle, Guadalajara, Jalisco, Mexico; Sendero Las Acacias 92, Guadalajara, Jaslico, Mexico; Vereda Del Canario 1, Guadalajara, Jalisco, Mexico; Puerto de Hierro, Zapopan, Jalisco, Mexico; Fresno, CA; DOB 3 Apr 1972; alt. DOB 5 March 1972; alt. DOB 1960; alt. DOB 1966; POB Tecalitlan, Jalisco, Mexico; alt. POB Tototlan, Jalisco, Mexico; citizen Mexico; nationality Mexico (individual) [SDNTK]

Dated: September 24, 2013.
Adam J. Szubin,
Director, Office of Foreign Assets Control.

[FR Doc. 2013-24132 Filed 10-1-13; 8:45 am]

BILLING CODE 4810-AL-P